DEPARTMENT OF TRANSPORTATION

Federal Highway Administration

Environmental Impact Statement: San Diego, CA

AGENCY: Federal Highway Administration (FHWA).

ACTION: Notice of Intent.

SUMMARY: FHWA is issuing this notice to advise the public that an Environmental Impact Statement (EIS) will be prepared for the proposed State Route 76 (SR-76) South Mission Road to the Interstate 15 (I-15) interchange highway improvement project in San Diego County, California.

FOR FURTHER INFORMATION CONTACT: Susanne Glasgow, Deputy District Director, at the California Department of Transportation, District 11—Environmental Division, M.S.-242, 4050 Taylor Street, San Diego, California 92110, Telephone (619) 688-0100.

SUPPLEMENTARY INFORMATION: Effective July 1, 2007, the Federal Highway Administration assigned and Caltrans assumed environmental responsibilities for this project, pursuant to 23 U.S.C. 327. Caltrans will prepare an Environmental Impact Statement (EIS) on a proposal for a highway improvement project in San Diego County, California. The proposed project would upgrade and improve operations on SR-76 from the vicinity of South Mission Road to the vicinity of the SR-76/I-15 interchange. The proposed improvements would upgrade the roadway to current design standards and improve operations of intersections and at the interchange on and off ramps. These improvements are considered necessary to provide for the increase in existing and projected traffic demand. The total length of the proposed project is approximately 5.2 miles. Preliminary alternatives under consideration include (1) Take no action; (2) construct improvements along the existing roadway; and (3) construct a new southern alignment. Anticipated final approvals for the proposed project include, but are not limited to, consultation with the U.S. Fish and Wildlife Service under Section 7 of the Endangered Species Act, Consultation under Section 2081 of the California Endangered Species Act, conformance with the Section 404 MOU Integration Process, conformance with Section 404 of the Clean Water Act, conformance with Section 1602 of the California Department of Fish and Game Code, conformance with Section 4(f), and conformance with the Clean Air Act.

Letters describing the proposed action and soliciting comments will be sent to appropriate Federal, State, Cooperating/Participating Agencies (including Tribal governments), local agencies, and to private organizations and citizens who have previously expressed or are known to have an interest in this proposal. National Environmental Policy Act documentation for the proposed project began in March 2008. The Public Scoping meeting will be held at the Bonsall Community Center in Bonsall, California on October 22, 2008, from 5 p.m. to 8 p.m. In addition, a public hearing will be held. Public notice will be given of the time and place of the public hearing (as applicable). The EIS will be available for public and agency review and comment prior to the public hearing.

To ensure that the full range of issues to this proposed action is addressed and all significant issues are identified, comments and suggestions are invited from all interested parties.

Comments or questions concerning this proposed action and the EIS should be directed to the address provided above.

(Catalog of Federal Domestic Assistance Program Number 20.205, Highway Planning and Construction. The regulations implementing Executive Order 12372 regarding intergovernmental consultation on Federal programs and activities apply to this program.)

Issued on: October 7, 2008.
Nancy E. Bobb,
Director, State Programs, Sacramento, California.

[FR Doc. E8-24254 Filed 10-10-08; 8:45 am]

BILLING CODE 4910-22-P